DEPARTMENT OF TRANSPORTATION

Coast Guard

33 CFR Part 117

[CGD01-01-038]

RIN 2115-AE47

Drawbridge Operation Regulations; West Bay, MA

AGENCY: Coast Guard, DOT.

ACTION: Notice of proposed rulemaking.

SUMMARY: The Coast Guard proposes to change the drawbridge operating regulations for the West Bay Bridge, at mile 1.2, across West Bay in Osterville, Massachusetts. This proposed rule would allow the bridge owner to increase the advance notice requirement for April and extend the evening operating hours at the bridge during the boating season. This action is expected to better meet the present needs of navigation.

DATES: Comments must reach the Coast Guard on or before July 9, 2001.

ADDRESSES: You may mail comments to Commander (obr), First Coast Guard District, Bridge Branch, at 408 Atlantic Avenue, Boston, MA. 02110-3350, or deliver them to the same address between 7 a.m. and 3 p.m., Monday through Friday, except Federal holidays. The telephone number is (617) 223-8364. The First Coast Guard District, Bridge Branch, maintains the public docket for this rulemaking. Comments and material received from the public, as well as documents indicated in this preamble as being available in the docket, will become part of this docket and will be available for inspection or copying at the First Coast Guard District, Bridge Branch, 7 a.m. to 3 p.m., Monday through Friday, except, Federal holidays.

FOR FURTHER INFORMATION CONTACT: Mr. John McDonald, Project Officer, First Coast Guard District, (617) 223-8364.

SUPPLEMENTARY INFORMATION:

Request for Comments

We encourage you to participate in this rulemaking by submitting comments or related material. If you do so, please include your name and address, identify the docket number for this rulemaking (CGD01-01-038), indicate the specific section of this document to which each comment applies, and give the reason for each comment. Please submit all comments and related material in an unbound format, no larger than 8½ by 11 inches, suitable for copying. If you would like to know if they reached us, please enclose a stamped, self-addressed postcard or envelope. We will consider all comments and material received during the comment period. We may change this proposed rule in view of them.

Public Meeting

We do not now plan to hold a public meeting. But you may submit a request for a meeting by writing to the First Coast Guard District, Bridge Branch, at the address under ADDRESSES explaining why one would be beneficial. If we determine that one would aid this rulemaking, we will hold one at a time and place announced by a later notice in the Federal Register.

Background and Purpose

The West Bay Bridge has a vertical clearance of 15 feet at mean high water and 17 feet at mean low water.

The existing regulations for the bridge listed at 33 CFR 117.622, require the bridge to open on signal, April 1 through October 31, as follows:

(1) April 1 through June 14 and October 12 through October 31; 8 a.m. to 4 p.m.

(2) June 15 through June 30; 8 a.m. to 6 p.m.

(3) July 1 through Labor Day; 8 a.m. to 8 p.m.

(4) Labor Day through October 11; 8 a.m. to 5 p.m.

At all other times from April 1 through October 31, the draw opens on signal if at least four hours advance notice is given. From November 1 through March 31, the draw opens on signal if at least twenty-four hours advance notice is given.

The bridge owner, the Town of Barnstable, asked the Coast Guard to change the drawbridge operation regulations to allow the bridge to open on signal, from April 1 through April 30 if at least a twenty-four hours advance notice is given by calling the number posted at the bridge.

The bridge was authorized to remain closed for repairs in April for the last two years. The number of bridge openings in April for the last five years are as follows:

1995 | 1996 | 1997 | 1998 | 1999 | 2000
54 | 46 | 45 | 70 | 0 | 0

In return for the advance notice requirement at all times in April, the bridge owner would crew the bridge two to three hours later at night during the boating season.

The bridge owner voluntarily expanded on signal service during the summer of 1999 and 2000, by extending the operating hours at the bridge at night. This was possible as a result of the cost savings derived from not crewing the bridge, 8 a.m. to 4 p.m., during the month of April while it was closed for repairs.

The bridge owner held a town meeting on January 25, 2001, in Osterville, Massachusetts, to receive verbal and written comment regarding this proposed change to the drawbridge operation regulations. The bridge has essentially operated for the past two years in accordance with the operating hours included in this proposed rule. The proposed changes were fully supported by the local attendees at the special town meeting. Attendees at the meeting included the local marina operators, mariners and citizens of Osterville. Mariners can reach open water when the West Bay Bridge is not crewed by navigating through Cotuit.

Discussion of Proposal

This proposed rule would require the West Bay Bridge, mile 1.2, across West Bay in Osterville, Massachusetts, to operate as follows:

(1) From November 1 through April 30, the draw would open on signal if at least a twenty-four hours advance notice is given.

(2) From May 1 through June 15, the draw would open on signal from 8 a.m. to 6 p.m.

(3) From June 16 through September 30, the draw would open on signal from 7 a.m. to 9 p.m.

(4) From October 1 through October 31, the draw would open on signal from 8 a.m. to 6 p.m.

(5) At all other times from May 1 through October 31, the draw would open on signal if at least a four-hour advance notice is given by calling the number posted at the bridge.

The increase in the advance notice requirement from four-hours to twenty-four hours during April should assist the bridge owner in cost savings while the additional hours the bridge is crewed May through September should benefit the mariners and better meet the needs of navigation. The Coast Guard believes this proposed rule is reasonable and will meet the present needs of navigation.

Paragraph (c) in the existing regulations would be removed by this proposed rule because it is now listed at 33 CFR 117.31.

Regulatory Evaluation

This proposed rule is not a “significant regulatory action” under section 3(f) of Executive Order 12866 and does not require an assessment of potential costs and benefits under 6(a)(3) of that Order. The Office of Management and Budget has not reviewed it under that Order. It is not significant under the regulatory policies and procedures of the Department of Transportation (DOT) (44 FR 11040, Feb. 26, 1979).

We expect the economic impact of this proposed rule to be so minimal that a full Regulatory Evaluation, under paragraph 10e of the regulatory policies and procedures of DOT, is unnecessary. This conclusion is based on the fact that the bridge will open at all times for the passage of vessel traffic.

Small Entities

Under the Regulatory Flexibility Act (5 U.S.C. 601-612), we considered whether this proposed rule would have a significant economic impact on a substantial number of small entities. The term “small entities” comprises small businesses, not-for-profit organizations that are independently owned and operated and are not dominant in their fields, and governmental jurisdictions with populations of less than 50,000.

The Coast Guard certifies under section 5 U.S.C. 605(b), that this proposed rule would not have a significant economic impact on a substantial number of small entities. This conclusion is based upon the fact that the bridge will open at all times for the passage of vessel traffic.

If you think that your business, organization, or governmental jurisdiction qualifies as a small entity and that this rule would have a significant economic impact on it, please submit a comment (see ADDRESSES) explaining why you think it qualifies and how and to what degree this rule would economically affect it.

Collection of Information

This proposed rule would call for no new collection of information under the Paperwork Reduction Act of 1995 (44 U.S.C. 3501-3520.).

Federalism

We have analyzed this proposed rule under Executive Order 13132 and have determined that this rule does not have implications for federalism under that Order.

Unfunded Mandates Reform Act

The Unfunded Mandates Reform Act of 1995 (2 U.S.C. 1531-1538) governs the issuance of Federal regulations that require unfunded mandates. An unfunded mandate is a regulation that requires a State, local, or tribal government or the private sector to incur direct costs without the Federal Government's having first provided the funds to pay those costs. This proposed rule would not impose an unfunded mandate.

Taking of Private Property

This proposed rule would not effect a taking of private property or otherwise have taking implications under Executive Order 12630, Governmental Actions and Interference with Constitutionally Protected Property Rights.

Civil Justice Reform

This proposed rule meets applicable standards in sections 3(a) and 3(b)(2) of Executive Order 12988, Civil Justice Reform, to minimize litigation, eliminate ambiguity, and reduce burden.

Protection of Children

We have analyzed this proposed rule under Executive Order 13045, Protection of Children from Environmental Health Risks and Safety Risks. This rule is not an economically significant rule and does not concern an environmental risk to health or risk to safety that may disproportionately affect children.

Environment

We considered the environmental impact of this proposed rule and concluded that, under figure 2-1, paragraph (32)(e), of Commandant Instruction M16475.1C, this proposed rule is categorically excluded from further environmental documentation because promulgation of drawbridge regulations have been found not to have a significant effect on the environment. A written “Categorical Exclusion Determination” is not required for this rule.

List of Subjects in 33 CFR Part 117

Bridges.

Regulations

For the reasons set out in the preamble, the Coast Guard proposes to amend 33 CFR part 117 as follows:

PART 117—DRAWBRIDGE OPERATION REGULATIONS

1. The authority citation for part 117 continues to read as follows:

Authority: 33 U.S.C. 499; 49 CFR 1.46; 33 CFR 1.05-1(g); section 117.255 also issued under the authority of Pub. L. 102-587, 106 Stat. 5039.

2. Section 117.622 is revised to read as follows:

§ 117.622 West Bay.

The draw of the West Bay Bridge, mile 1.2, at Osterville, shall operate as follows:

(a) From November 1 through April 30, the draw shall open on signal if at least a twenty-four hours advance notice is given.

(b)(1) From May 1 through June 15, the draw shall open on signal from 8 a.m. to 6 p.m.

(2) From June 16 through September 30, the draw shall open on signal from 7 a.m. to 9 p.m.

(3) From October 1 through October 31, the draw shall open on signal from 8 a.m. to 6 p.m.

(4) At all other times from May 1 through October 31, the draw shall open on signal if at least a four-hours advance notice is given by calling the number posted at the bridge.

Dated: April 26, 2001.
G.N. Naccara,
Rear Admiral, U.S. Coast Guard, Commander, First Coast Guard District.

[FR Doc. 01-11716 Filed 5-8-01; 8:45 am]

BILLING CODE 4910-15-P